NATIONAL COMMISSION ON TERRORIST ATTACKS UPON THE UNITED STATES

Public Hearing

AGENCY: National Commission on Terrorist Attacks Upon the United States.

ACTION: Notice of public hearing.

SUMMARY: The National Commission on Terrorist Attacks Upon the United States will hold its fourth public hearing on October 14, 2003 in Washington, DC. Witnesses will speak about issues related to U.S. intelligence leadership, intelligence and national security policy, and the effectiveness of warning against transnational threats. Representatives of the media should register in advance of the hearing by visiting the Commission's Web site at http://www.9-11 commission.gov. Seating for the general public will be on a first-come, first-served basis. Press availability will occur at the conclusion of the hearing.

DATES: October 14, 2003, 9 a.m. to 3:15 p.m. Press availability to follow.

LOCATION: Russell Senate Office Building, Room 253, Washington, DC, 20510.

FOR FURTHER INFORMATION CONTACT: Al Felzenberg, (202) 401-1725 or (202) 236-4878 (cellular).

SUPPLEMENTARY INFORMATION: Please refer to Public Law 107-306 (November 27, 2002), title VI (Legislation creating the Commission), and the Commission's Web site http://www.9-11 commission.gov.

Dated: October 2, 2003.
Philip Zelikow,
Executive Director.

[FR Doc. 03-25412 Filed 10-7-03; 8:45 am]

BILLING CODE 8800-01-M